ENVIRONMENTAL PROTECTION AGENCY

[EPA-HQ-OPP-2014-0219; FRL-9911-66]

Pesticides; Consideration of Volatilization in Pesticide Risk Assessment: Reopening of Comment Period

AGENCY: Environmental Protection Agency (EPA).

ACTION: Notice; re-opening of comment period.

SUMMARY: EPA issued a notice in the Federal Register issue of March 26, 2014, concerning the availability of several guidance documents for public comment. This document reopens the comment period for 30 days. The comment period is being reopened to provide additional time for commenters to prepare their responses.

DATES: Comments, identified by docket identification (ID) number EPA-HQ-OPP-2014-0219, must be received on or before July 11, 2014.

ADDRESSES: Follow the detailed instructions as provided under ADDRESSES in the Federal Register document of March 26, 2014.

FOR FURTHER INFORMATION CONTACT: Charles Smith, Health Effects Division (7509P), Office of Pesticide Programs, Environmental Protection Agency, 1200 Pennsylvania Ave. NW., Washington, DC 20460-0001; telephone number: (703) 305-0291; email address: smith.charles@epa.gov.

SUPPLEMENTARY INFORMATION: This document reopens the public comment period established in the Federal Register issue of March 26, 2014 (79 FR 16791) (FRL-9907-92), which requested comment on several draft guidance documents. Additional time to comment was requested by CropLife America. EPA is hereby reopening the comment period for 30 days.

To submit comments, or access the docket, please follow the detailed instructions as provided under ADDRESSES in the March 26, 2014, Federal Register document. If you have questions, consult the person listed under FOR FURTHER INFORMATION CONTACT.

List of Subjects

Environmental protection, Administrative practice and procedure, Agricultural commodities, Pesticides and pests.

Dated: June 2, 2014.
Jack Housenger,
Director, Office of Pesticide Programs.

[FR Doc. 2014-13626 Filed 6-10-14; 8:45 am]

BILLING CODE 6560-50-P